Proclamation 10985 of October 17, 2025

National Cybersecurity Awareness Month, 2025

By the President of the United States of America

A Proclamation

This National Cybersecurity Awareness Month, my Administration renews its commitment to strengthening our Nation's cybersecurity to improve American lives, defend American sovereignty, and uphold the rights of every American citizen.

In recent years, advancements in cybersecurity have presented new threats to our national defense and personal privacy. Criminal organizations and our foes overseas have continued to wage cyber campaigns targeting American civilians and businesses. These attacks have disrupted critical services across our Nation and inflicted billions of dollars in damages.

For this reason, earlier this year, I signed an Executive Order to strengthen our Nation's cybersecurity by focusing on critical protections against foreign cyber threats and improving secure technology practices. Among other crucial measures, this action orders the Federal Government to advance secure software development, directs the adoption of the latest encryption protocols, and refocuses artificial intelligence cybersecurity efforts towards identifying and managing vulnerabilities rather than censoring the lawful speech of the American people.

In this effort, I am especially proud of the First Lady, whose steadfast leadership has helped protect America's children in the digital world. Earlier this year, she championed the bipartisan TAKE IT DOWN Act, a landmark law that gives families and young people stronger protections against the spread of non-consensual intimate images and other forms of online exploitation. Her dedication reminds us that cybersecurity is not only about networks and infrastructure, but also about safeguarding the dignity, privacy, and well-being of every American child.

We are also putting the interests of American citizens and American companies first in cyberspace, ensuring that our inheritance of freedom prevails and endures in the digital age. We are fueling American innovation by eliminating unnecessary regulatory burdens and securing greater investments in our technology sector. My Administration will do whatever it takes to make America cyber secure.

This month, especially, the First Lady and I encourage every American to take steps to safeguard their personal devices, technology, and data—including by using stronger passwords and multifactor authentication, reporting fraudulent emails, backing up critical data, and regularly updating software. We also renew our pledge to unleash the full might of American ingenuity to respond to every threat to our privacy, freedom, and national security—and we vow to never waver in defending the lives, liberty, and safety of the American people.

NOW, THEREFORE, I, DONALD J. TRUMP, President of the United States of America, by virtue of the authority vested in me by the Constitution and the laws of the United States, do hereby proclaim October 2025 as National Cybersecurity Awareness Month. I call upon the people, companies, and institutions of the United States to recognize the importance of cybersecurity and to observe this month through events, training, and education to further our country's national security and resilience.

IN WITNESS WHEREOF, I have hereunto set my hand this seventeenth day of October, in the year of our Lord two thousand twenty-five, and of the Independence of the United States of America the two hundred and fiftieth.

[FR Doc. 2025-19640

Filed 10-21-25; 11:15 am]

Billing code 3395-F4-P